DEPARTMENT OF ENERGY

Federal Energy Regulatory Commission

[Project No. 8535-039]

Virginia Hydrogeneration and Historical Society, L.C.; Notice of Availability of Environmental Assessment

September 7, 2005.

In accordance with the National Environmental Policy Act of 1969, as amended, and the Federal Energy Regulatory Commission's (Commission) regulations (18 CFR part 380), Commission staff have reviewed an application to surrender the license for the Battersea Project, filed December 20, 2004. The project is located on The Appomattox River, in the City of Petersburg, Virginia.

Commission staff prepared an environmental assessment (EA), analyzing the probable environmental effects of the proposed surrender, and has concluded that approval of the surrender request would not constitute a major federal action significantly affecting the quality of the human environment.

A copy of the EA is attached to the Commission order titled “Order Conditionally Accepting Surrender of License,” issued September 6, 2005, and is available for review at the Commission's Public Reference Room. A copy of the EA may also be viewed on the Commission's Web site at http://www.ferc.gov using the “elibrary” link. Enter the docket number (P-8535) in the docket number field to access the document. For assistance, call (202) 502-8222, or (202) 502-8659 (for TTY).

Magalie R. Salas,
Secretary.

[FR Doc. E5-4990 Filed 9-12-05; 8:45 am]

BILLING CODE 6717-01-P